DEPARTMENT OF THE INTERIOR

Bureau of Land Management

[LLES961000 L14400000 BK0000 17X]

Notice of Filing of Plats Survey; Eastern States

AGENCY: Notice of official filing.

SUMMARY: The Bureau of Land Management (BLM) Eastern States Office is publishing this notice to inform the public of the intent to officially file the survey plat listed below, and afford a proper period of time to protest this action prior to the plat filing. During this time, the plat will be available for review in the BLM Eastern States Office. The surveys, which were executed at the request of the Bureau of Indian Affairs and the BLM, are necessary for the management of these lands.

DATES: Unless there are protests of this action, the filing of the plat described in this notice will be filed on October 10, 2017.

ADDRESSES: BLM Eastern States Office, 20 M Street SE., Suite 950, Washington DC, 20003.

FOR FURTHER INFORMATION CONTACT: Leon Chmura, Acting Chief Cadastral Surveyor for Eastern States; (202) 912-7760. Bureau of Land Management, Eastern States Office, 20 M Street SE., Suite 950, Washington DC, 20003. Attn: Cadastral Survey. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: A person or party who wishes to protest a survey must file a notice that they wish to protest with the Chief, Branch of Cadastral Survey. A statement of reasons for a protest may be filed with the notice of protest and must be filed with the Chief, Branch of Cadastral Survey within 30 days after the protest is filed. If a protest against the survey is received prior to the date of official filing, the filing will be stayed pending consideration of the protest. A plat will not be officially filed until the day after all protests have been dismissed or otherwise resolved. Before including your address, phone number, email address, or other personal identifying information in your comment, you should be aware that your entire comment including your personal identifying information may be made publicly available at any time. While you can ask us in your comment to withhold your personal identifying information from public review, we cannot guarantee that we will be able to do so.

The Bureau of Indian Affairs requested this survey in Township 7 North, Range 10 East, Choctaw Meridian, Mississippi for the management of trust lands.

The plat of survey represents the dependent resurvey of a portion of the subdivisional lines; the survey of the subdivision of sections 14 and 23; and the metes and bounds survey of parcels held in trust for the Mississippi Band of Choctaw in sections 14 and 23 of Township 7 North, Range 10 East, of the Choctaw Meridian, in the state of Mississippi, and was accepted September 30th, 2016. A copy of the described plat will be placed in the open files, and available to the public as a matter of information.

Leon Chmura,
Acting Chief Cadastral Surveyor.

[FR Doc. 2017-18959 Filed 9-6-17; 8:45 am]

BILLING CODE 4310-GJ-P